DEPARTMENT OF ENERGY

Federal Energy Regulatory Commission

[Docket Nos. ER02-199-000, ER02-218-000, ER02-219-000, ER02-220-000, ER02-221-000, ER02-222-000, ER02-223-000, ER02-224-000, ER02-225-000, ER02-226-000, ER02-227-000, ER02-228-000, ER02-229-000, ER02-230-000, ER02-498-000, ER02-788-000, EL02-50-000]

Mississippi Power Company, Southern Company Services, Inc., Georgia Power Company, Alabama Power Company, Gulf Power Company, Southern Company Services, Inc.; Notice Specifying Time for Submission of State Commission Comments

February 1, 2002.

Take notice that on January 30, 2002, the Commission issued an order in this proceeding that set these dockets for a trial-type, evidentiary hearing, but held the hearing in abeyance. Because the triennial review process of the underlying settlements did not explicitly invite state commission comments, the Commission explained in its January 30 order that it wished to solicit comments and views as to the reasonableness of the formula rates at issue in these dockets from the state commissions for the states where the retail customers of the entities which are purchasers under the rate schedules at issue in these dockets are located. Mississippi Power Co., et al., 98 FERC ¶ 61,065 (2002).

Accordingly, the Commission invites comments and views as to the reasonableness of the formula rates at issue in these dockets from the state commissions for the states where the retail customers of the entities which are purchasers under the rate schedules at issue in these dockets are located.

Such comments and views shall be filed on or before February 28, 2002, and should reference the above dockets.

The Commission does not intend to permit answers to the state commissions' comments and views.

Magalie R. Salas,
Secretary.

[FR Doc. 02-2972 Filed 2-6-02; 8:45 am]

BILLING CODE 6717-01-P